DEPARTMENT OF THE TREASURY

Office of Foreign Assets Control

Notice of OFAC Sanctions Action

AGENCY: Office of Foreign Assets Control, Department of the Treasury.

ACTION: Notice.

SUMMARY: The U.S. Department of the Treasury's Office of Foreign Assets Control (OFAC) is publishing an update to the identifying information of one person currently included on OFAC's list of Specially Designated Nationals and Blocked Persons.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Action

On September 3, 2019, OFAC updated the SDN List for the following person, whose property and interests in property continue to be blocked under the Foreign Narcotics Kingpin Designation Act.

Individual

1. BELTRAN LEYVA, Alfredo (a.k.a. BELTRAN LEYVA, Hector Alfredo), Mexico; DOB 21 Jan 1971; alt. DOB 15 Feb 1951; POB La Palma, Badiriguato, Sinaloa, Mexico; citizen Mexico; nationality Mexico; SSN 604-26-2627 (United States) (INDIVIDUAL) [SDNTK].

The listing for the following person now appear as follows:

1. BELTRAN LEYVA, Alfredo (a.k.a. BELTRAN LEYVA, Hector Alfredo), Mexico; DOB 21 Jan 1971; POB La Palma, Badiraguato, Sinaloa, Mexico; nationality Mexico; citizen Mexico (individual) [SDNTK].

Dated: September 3, 2019.
Gregory T. Gatjanis,
Associate Director, Office of Global Targeting.

[FR Doc. 2019-19243 Filed 9-5-19; 8:45 am]

BILLING CODE 4810-AL-P